ENVIRONMENTAL PROTECTION AGENCY

[EPA-HQ-OAR-2020-0075; FRL-10008-83-OAR]

Clean Air Act Advisory Committee (CAAAC): Notice of Meeting

AGENCY: Environmental Protection Agency (EPA).

ACTION: Notice of meeting.

SUMMARY: The Environmental Protection Agency (EPA) announces an upcoming meeting for the Clean Air Act Advisory Committee (CAAAC). The EPA established the CAAAC on November 19, 1990 to provide independent advice and counsel to EPA on policy issues associated with implementation of the Clean Air Act of 1990. The Committee advises EPA on economic, environmental, technical, scientific and enforcement policy issues.

DATES: Pursuant to 5 U.S.C. App. 2 Section 10(a)(2), notice is hereby given that the CAAAC will hold its next face-to-face meeting on Wednesday, May 20, 2020 from 12:45 p.m. to 5:15 p.m. (EDT).

ADDRESSES: The meeting will take place virtually. If you want to listen to the meeting or provide comments, please email caaac@epa.gov for further details.

FOR FURTHER INFORMATION CONTACT: Larry Weinstock, Designated Federal Official, Clean Air Act Advisory Committee (6103A), Environmental Protection Agency, 1200 Pennsylvania Ave. NW, Washington, DC 20460; telephone number: 202-564-9226; email address: weinstock.larry@epa.gov. Additional information about this meeting, the CAAAC, and its subcommittees and workgroups can be found on the CAAAC website: http://www.epa.gov/oar/caaac/.

SUPPLEMENTARY INFORMATION: The committee agenda and any documents prepared for the meeting will be publicly available on the CAAAC website at http://www.epa.gov/caaac/ prior to the meeting. Thereafter, these documents, together with CAAAC meeting minutes, will be available on the CAAAC website or by contacting the Office of Air and Radiation Docket and requesting information under docket EPA-HQ-OAR-2020-0075. The docket office can be reached by email at: a-and-r-Docket@epa.gov or FAX: 202-566-9744.

For information on access or services for individuals with disabilities, please contact Lorraine Reddick at reddick.lorraine@epa.gov, preferably at least 10 days prior to the meeting to give EPA as much time as possible to process your request.

Dated: April 22, 2020.
John Shoaff,
Director, Office of Air Policy and Program Support.

[FR Doc. 2020-08968 Filed 4-27-20; 8:45 am]

BILLING CODE 6560-50-P